DEPARTMENT OF EDUCATION

34 CFR Part 694

Gaining Early Awareness and Readiness for Undergraduate Programs

AGENCY: Office of Postsecondary Education, Department of Education.

ACTION: Final regulations; interpretation.

SUMMARY: The Secretary interprets and clarifies sections of the Department of Education's final regulations governing the Gaining Early Awareness and Readiness for Undergraduate Programs (GEAR UP) program that were published in the Federal Register on April 27, 2000 (65 FR 24756). The Secretary takes this action in response to questions that have arisen about scholarships for GEAR UP students.

DATES: This interpretation is effective June 28, 2000.

FOR FURTHER INFORMATION CONTACT: Rafael Ramirez, Office of Postsecondary Education, U.S. Department of Education, 1990 K Street, NW, Room 6252, Washington, DC 20006. Telephone: (202) 502-7676. If you use a telecommunications device for the deaf (TDD), you may call the Federal Information Relay Service (FIRS) at 1-800-877-8339. Individuals with disabilities may obtain this document in an alternative format (e.g., Braille, large print, audiotape, or computer diskette) on request to the contact person listed.

SUPPLEMENTARY INFORMATION: In the GEAR UP regulations, in § 694.10, we require State and partnership grantees to monitor the treatment of GEAR UP scholarships in relation to other aid GEAR UP students may receive. Some colleges and universities have raised questions about the applicability of the regulations to them.

The GEAR UP regulations govern the use of GEAR UP funds by GEAR UP grantees. Accordingly, the GEAR UP regulations do not apply to institutions that are not GEAR UP grantees or do not enroll any GEAR UP students. Moreover, under the regulations, no institution is required to enroll a GEAR UP student, and if it does so, that institution may decline to order the student's aid in the manner required by the regulations. In the latter case, however, it would be the grantee's responsibility to inform the GEAR UP student that he or she could not receive the GEAR UP scholarship to attend that institution. In this case, the student would be free to attend that college without the GEAR UP scholarship or another college that orders the aid in a manner consistent with the regulations with the GEAR UP scholarship.

Waiver of Public Comment

In accordance with the Administrative Procedure Act, it is the practice of the Secretary to offer interested parties the opportunity to comment on proposed rules. However, since this document only clarifies and interprets an existing regulation, additional public comment on this document is not required under 5 U.S.C. 553(b)(A).

Electronic Access to This Document

You may view this document in text or Adobe Portable Document Format (PDF) on the Internet at the following sites:

http://ocfo.ed.gov/fedreg.htm

http://www.ed.gov/news.html

http://ifap.ed.gov/csb_html/fedlreg.htm

To use the PDF you must have Adobe Acrobat Reader, which is available free at the first of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Number: 84.334 Gaining Early Awareness and Readiness for Undergraduate Program)

Dated: June 21, 2000.
A. Lee Fritschler,
Assistant Secretary, Office of Postsecondary Education.

[FR Doc. 00-16124 Filed 6-27-00; 8:45 am]

BILLING CODE 4000-01-P